SECURITIES AND EXCHANGE COMMISSION

[File No. 500-1]

Micro Laboratories, Inc.; Order of Suspension of Trading

June 11, 2010.

It appears to the Securities and Exchange Commission that there is a lack of current and accurate information concerning the securities of Micro Laboratories, Inc. (“Micro Laboratories”) because it has not filed any periodic reports since the period ended June 30, 2005. Micro Laboratories is quoted on the Pink Sheets operated by Pink OTC Markets, Inc. under the ticker symbol MLAR.

The Commission is of the opinion that the public interest and the protection of investors require a suspension of trading in the securities of the above-listed company, and any equity securities of any entity purporting to succeed to this issuer.

Therefore, it is ordered, pursuant to Section 12(k) of the Securities Exchange Act of 1934, that trading in the securities of the above-listed company, and any equity securities of any entity purporting to succeed to this issuer, is suspended for the period from 9:30 a.m. EDT on June 11, 2010, through 11:59 p.m. EDT on June 24, 2010.

By the Commission.
Florence E. Harmon,
Deputy Secretary.

[FR Doc. 2010-14574 Filed 6-14-10; 11:15 am]

BILLING CODE 8010-01-P